DEPARTMENT OF HEALTH AND HUMAN SERVICES

Administration for Children and Families

Submission for OMB Review; Recordkeeping for New Vaccine and Mask Requirements To Mitigate the Spread of COVID-19 in Head Start (OMB #0970-0583)

AGENCY: Office of Head Start, Administration for Children and Families, HHS.

ACTION: Request for public comment.

SUMMARY: The Office of Head Start (OHS), Administration for Children and Families (ACF), U.S. Department of Health and Human Services (HHS) requests public comment on an extension with no changes to recordkeeping requirements for ACF Head Start grantees. An Interim Final Rule with Comment Period (IFC) was published on November 30, 2021 that established the COVID-19 vaccination requirements whereby all Head Start staff, certain contractors, and volunteers must be vaccinated for COVID-19 by January 31, 2022. OHS requested and received emergency approval from the Office of Management and Budget (OMB) to implement the associated recordkeeping requirements for 6 months. This request will extend approval beyond the current expiration date (6/30/2022). ACF is currently in the final rulemaking process. If the requirements in the final rule differ from the IFC in a way that alters recordkeeping requirements, ACF will make those changes in coordination with OMB.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: This request is for recipients of Head Start funding to continue to (1) collect and maintain records on the vaccination status of staff (including certain contractors) and volunteers in Head Start and Early Head Start programs and (2) develop and maintain a written COVID-19 testing protocol for individuals granted vaccine exemptions that was established through the IFC (86 FR 68052). There is no standard instrument required to be used to meet these recordkeeping requirements. Burden estimates have been updated to reflect more recent data available.

Respondents: Recipients of Head Start funding.

Annual Burden Estimates
Instrument | Total number of respondents | Responses per respondent | Average annual burden hours | Annual burden hours
Staff, Contractor, and Volunteer Reporting of New Vaccination | 75,000 | 1 | 0.6667 | 50,002.5
Staff, Contractor, and Volunteer Reporting of Existing Vaccination | 320,000 | 1 | 0.0833 | 26,656
Staff, Contactor, and Volunteer Requesting and Processing Vaccination Exemption | 5,000 | 1 | 0.5000 | 2,500
Grant Recipient Maintaining Vaccination Records | 1,573 | 1 | 6.3573 | 10,000
Grant Recipient Establishing COVID-19 Testing Protocol | 1,573 | 1 | 3.3333 | 5,243.3
Grant Recipient Maintaining COVID-19 Testing Protocol | 1,573 | 1 | 1 | 1,573

Estimated Total Annual Burden Hours: We estimate the one-time and ongoing burden to maintain records on staff and volunteer vaccination rates and establish and maintain a written COVID-19 testing protocol will result in 95,974.8 total annual burden hours.

(Authority: IFC [86 FR 68052])

Mary B. Jones,
ACF/OPRE Certifying Officer.

[FR Doc. 2022-13615 Filed 6-24-22; 8:45 am]

BILLING CODE 4184-40-P